DEPARTMENT OF COMMERCE

International Trade Administration

[C-570-926]

Sodium Nitrite from the People's Republic of China: Countervailing Duty Order

AGENCY: Import Administration, International Trade Administration, Department of Commerce.

SUMMARY: Based on an affirmative final determination by the U.S. International Trade Commission (ITC), the Department of Commerce (the Department) is issuing a countervailing duty order on sodium nitrite from the People's Republic of China (PRC). On August 20, 2008, the ITC notified the Department of its affirmative determination of material injury to a U.S. industry. See Sodium Nitrite from the People's Republic of China, USITC Pub. 4029, Inv. No. 701-TA-453 (Final) (August 2008).

EFFECTIVE DATE: August 27, 2008.

FOR FURTHER INFORMATION CONTACT: Gene Calvert or Paul Matino, AD/CVD Operations, Office 6, Import Administration, International Trade Administration, Department of Commerce, 14th Street and Constitution Avenue, N.W., Washington, D.C. 20230; telephone: (202) 482-3586 or (202) 482-4146, respectively.

SUPPLEMENTARY INFORMATION:

Scope of the Order

The merchandise covered by this order is sodium nitrite in any form, at any purity level. In addition, the sodium nitrite covered by this order may or may not contain an anti-caking agent. Examples of names commonly used to reference sodium nitrite are nitrous acid, sodium salt, anti-rust, diazotizing salts, erinitrit, and filmerine. The chemical composition of sodium nitrite is NaNO2 and it is generally classified under subheading 2834.10.1000 of the Harmonized Tariff Schedule of the United States (HTSUS). The American Chemical Society Chemical Abstract Service (CAS) has assigned the name “sodium nitrite” to sodium nitrite. The CAS registry number is 7632-00-0. For purposes of the scope of this order, the narrative description is dispositive, not the tariff heading, CAS registry number or CAS name, which are provided for convenience and customs purposes.

Countervailing Duty Order

In accordance with section 705(d) of the Tariff Act of 1930, as amended (the Act), on July 8, 2008, the Department published its final determination in the countervailing duty investigation of sodium nitrite from the PRC. See Sodium Nitrite from the People's Republic of China: Final Affirmative Countervailing Determination, 73 FR 38981 (July 8, 2008). On August 9, 2008, the Department terminated suspension of liquidation in accordance with 703(d) of the Act. Section 703(d) states that the suspension of liquidation pursuant to a preliminary determination may not remain in effect for more than four months.

On August 20, 2008, the ITC notified the Department of its final determination, pursuant to section 705(b)(1)(A)(i) of the Act, that an industry in the United States is materially injured as a result of subsidized imports of sodium nitrite from the PRC. As a result of the ITC's determination, in accordance with Section 706(a) of the Act, the Department will direct U.S. Customs and Border Protection (CBP) to assess, upon further instruction by the Department, countervailing duties on all unliquidated entries of sodium nitrite from the PRC entered, or withdrawn from warehouse, for consumption on or after April 11, 2008, the date on which the Department published its preliminary affirmative countervailing duty determination in the Federal Register, and before August 9, 2008, the date on which the Department instructed CBP to discontinue the suspension of liquidation in accordance with section 703(d) of the Act. Entries of sodium nitrite made on or after August 9, 2008, and prior to the date of publication of the ITC's final determination in the Federal Register are not liable for the assessment of countervailing duties due to the Department's discontinuation, effective August 9, 2008, of the suspension of liquidation.

In accordance with section 706 of the Act, the Department will direct CBP to reinstitute the suspension of liquidation for sodium nitrite from the PRC, effective the date of publication of the ITC's notice of final determination in the Federal Register, and to assess, upon further advice by the Department pursuant to section 706(a)(1) of the Act, countervailing duties for each entry of the subject merchandise in an amount based on the net countervailable subsidy rates for the subject merchandise. On or after the date of publication of the ITC's final injury determination in the Federal Register, CBP must require, at the same time as importers would normally deposit estimated duties on this merchandise, a cash deposit equal to the rates noted below:

Producer/Exporter | Subsidy Rate
Shanxi Jiaocheng Hongxing Chemical Co., Ltd. (Shanxi Jiaocheng) | 169.01%
Tianjin Soda Plant Tianjin Port Free Trade Zone Pan Bohai International Trading Co., Ltd. (Tianjin Soda Plant) | 169.01%
All Others | 169.01%

This notice constitutes the countervailing duty order with respect to sodium nitrite from the PRC pursuant to section 706(a) of the Act. Interested parties may contact the Central Records Unit (CRU), Room 1117 of the main Commerce building, for copies of an updated list of countervailing duty orders currently in effect.

This countervailing duty order is issued and published in accordance with sections 705(c)(2) and 705(d) of the Act and 19 CFR 351.211.

Dated: August 22, 2008.
David M. Spooner,
Assistant Secretary for Import Administration.

[FR Doc. E8-19884 Filed 8-26-08; 8:45 am]

BILLING CODE 3510-DS-S